NATIONAL FOUNDATION ON THE ARTS AND THE HUMANITIES

Institute of Museum and Library Services

2 CFR Part 3187

RIN 3137-AA26

IMLS Grant Regulations To Reflect the Museum and Library Services Act of 2018

AGENCY: Institute of Museum and Library Services (IMLS or Institute).

ACTION: Final rule; technical amendments.

SUMMARY: This rule amends the IMLS grant regulations to revise the definition of “museum” to include “tribal” and “cultural heritage.” These amendments are necessitated by changes to the definition of “museum” in the recent reauthorization of the corresponding statute, namely the Museum and Library Services Act of 2018.

DATES: This rule is effective June 14, 2019.

FOR FURTHER INFORMATION CONTACT: Calvin D. Trowbridge III, Deputy General Counsel, Institute of Museum and Library Services, (202) 653-4675.

SUPPLEMENTARY INFORMATION:

I. Background Information

On December 31, 2018, the Museum and Library Services Act of 2018 (the Act) became law (Pub. L. 115-410). In addition to reauthorizing the Institute of Museum and Library Services (the Institute or IMLS) and effectuating other amendments, the Act revised the definition of “museum” for subchapter III Museum Services. The revised definition of “museum” now includes “tribal” and “cultural heritage.” In order to align the agency's regulations with the changes to the revised statutory definition, this rule makes corresponding revisions to the definition of “museum” in the IMLS grant regulations in 2 CFR part 3187.

II. Discussion of the Final Rule

A. Non-Discretionary Changes Resulting From the Museum and Library Services Act of 2018 (Pub. L. 115-410)

To reflect the Museum and Library Services Act of 2018 (Pub. L. 115-410) (the Act), the Institute has made changes to the definition of “museum” in the IMLS grant regulations.

B. Response to Comment and Changes From Proposed Rule

Because these amendments are made to correspond with the changes in the Act, there was no proposed rule; this is the final rule.

III. Regulatory Analyses

Regulatory Planning and Review (E.O. 12866)

Under Executive Order 12866, the Institute must determine whether the regulatory action is “significant” and therefore subject to OMB review and the requirements of the Executive Order. The Order defines a “significant regulatory action” as one that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

This rule updates the Institute's grant regulations to reflect revisions to the definition of “museum” made by the Museum and Library Services Act of 2018 (Pub. L. 115-410) (the Act). The revised “museum” definition is expanded to include “tribal” and “cultural heritage.” As such, it does not impose a compliance burden on the economy generally or on any person or entity. Accordingly, this rule is not a “significant regulatory action” from an economic standpoint, and it does not otherwise create any inconsistences or budgetary impacts to any other agency or Federal Program.

Regulatory Flexibility Act

Because this rule would update existing regulations, the Institute has determined in Regulatory Flexibility Act (5 U.S.C. 601 et seq.) review that this rule will not have a significant economic impact on a substantial number of small entities because it simply makes amendments to reflect the Museum and Library Services Act of 2018 (Pub. L. 115-410).

Paperwork Reduction Act

This rule is exempt from the requirements of the Paperwork Reduction Act (44 U.S.C. 3501-3521), since it amends existing IMLS grant regulations to reflect the Museum and Library Services Act of 2018 (Pub. L. 115-410). An OMB form 83-1 is not required.

Unfunded Mandates Reform Act

For purposes of the Unfunded Mandates Reform Act of 1995 (2 U.S.C. 1501-1571), this rule will not significantly or uniquely affect small governments and will not result in increased expenditures by State, local, or tribal governments, or by the private sector, of $100 million or more (as adjusted for inflation) in any one year.

Small Business Regulatory Enforcement Fairness Act (SBREFA)

This rule is not a major rule under 5 U.S.C. 804(2), of the Small Business Regulatory Enforcement Fairness Act. This rule will not have an annual effect on the economy of $100 million or more; a major increase in costs or prices; or significant adverse effects on competition, employment, investment, productivity, innovation, or on the ability of U.S.-based enterprises to compete with foreign-based enterprises in domestic and export markets.

Takings (E.O. 12630)

In accordance with Executive Order 12630, this rule does not have significant takings implications. No rights, property or compensation has been, or will be, taken. A takings implication assessment is not required.

Federalism (E.O. 13132)

In accordance with Executive Order 13132, this rule does not have federalism implications that warrant the preparation of a federalism assessment.

Civil Justice Reform (E.O. 12988)

In accordance with Executive Order 12988, the Institute has determined that this rule does not unduly burden the judicial system and meets the requirements of sections 3(a) and 3(b)(2) of the Order.

Consultation and Coordination With Indian Tribes (E.O. 13175)

In accordance with Executive Order 13175, the Institute has evaluated this rule and determined that it has no potential negative effects on federally recognized Indian tribes.

National Environmental Policy Act

This rule does not constitute a major Federal action significantly affecting the quality of the human environment.

List of Subjects in 2 CFR Part 3187

Federal awards, Definitions.

For the reasons stated in the preamble and under the authority of 20 U.S.C. 9101 et seq., the Institute of Museum and Library Services amends 2 CFR part 3187 as follows:

PART 3187—UNIFORM ADMINISTRATIVE REQUIREMENTS, COST PRINCIPLES, AND AUDIT REQUIREMENTS FOR FEDERAL AWARDS

1. The authority citation for part 3187 continues to read as follows:

Authority: 20 U.S.C. 9101-9176, 9103(h); 20 U.S.C. 80r-5; 2 CFR part 200.

2. In § 3187.3, amend paragraph (a) introductory text by adding “, tribal,” after “Museum means a public”, and by adding “, cultural heritage,” after “educational”.

Dated: June 10, 2019.
Kim Miller,
Grants Management Specialist, Institute of Museum and Library Services.

[FR Doc. 2019-12519 Filed 6-13-19; 8:45 am]

BILLING CODE 7036-01-P